DEPARTMENT OF LABOR

Employment and Training Administration

Notice of Availability of Funds and Solicitation for Grant Applications (SGA) for Mentoring, Educational, and Employment Strategies To Improve Academic, Social, and Career Pathway Outcomes

AGENCY: Employment and Training Administration, U.S. Department of Labor.

Announcement Type: Notice of Solicitation for Grant Applications.

Funding Opportunity Number: SGA/DFA PY 08-14.

Catalog Federal Assistance Number: 17.261.

SUMMARY: The Employment and Training Administration (ETA) announces the availability of $34 million for grants to serve high schools that have been designated as persistently dangerous by State Educational Agencies for the 2008-2009 school year under section 9532 of the Elementary and Secondary Education Act. The goal of these grants is to reduce violence within these schools through a combination of mentoring, education, employment, case management, and violence prevention strategies. These grants will be awarded to fund projects in schools not currently receiving a DOL grant for these purposes through a competitive process open both to school districts which include persistently dangerous high schools and to community-based organizations (CBOs) in partnership with these school districts. High schools which have been designated as persistently dangerous this school year and which are not currently receiving a Department of Labor (Department or DOL) grant under this initiative are located in the school districts of Baltimore City, Plainfield (New Jersey), New York City, Schenectady (New York), Salem-Keiser (Oregon), Philadelphia, and Puerto Rico. These schools are listed in Section VIIIA below. School districts and CBOs must submit a separate application for each high school that they propose serving, but may submit as many applications as they have eligible schools. Applications submitted by school districts must include plans to have one or more CBOs as sub-grantees/contractors to operate at a minimum the mentoring component. These proposed CBO sub-grantees/contractors do not need to be listed in the application, as the Department strongly encourages the use of competition in selecting sub-grantees and contractors either before or after grant award. Applications submitted by CBOs must have a school district identified as a partner, with a signed memorandum of understanding (MOU) with the school district included in the application. To be eligible to apply for these grants as a CBO, organizations must be not-for-profit entities and can operate either nationally or locally.

This solicitation provides background information and describes the application submission requirements, outlines the process that eligible entities must use to apply for funds covered by this solicitation, and outlines the evaluation criteria used as a basis for selecting the grantees.

DATES: Key Dates: The closing date for receipt of applications under this announcement is September 22, 2009. Application and submission information is explained in detail in Part IV of this SGA.

ADDRESSES: Mailed applications must be addressed to the U.S. Department of Labor, Employment and Training Administration, Division of Federal Assistance, Attention: B. Jai Johnson, Reference SGA/DFA PY 08-14, 200 Constitution Avenue, NW., Room N-4716, Washington, DC 20210. Applications that do not meet the conditions set forth in this notice will not be considered. No exceptions to the submission requirements set forth in this notice will be granted. For detailed guidance, please refer to Section IV.C.

SUPPLEMENTARY INFORMATION: This solicitation consists of eight parts:

Part I provides a description of this funding opportunity

Part II describes the size and nature of the anticipated awards

Part III describes eligibility information and other grant specifications

Part IV provides information on the application and submission process

Part V describes the criteria against which applications will be reviewed and explains the proposal review process

Part VI provides award administration information

Part VII contains DOL agency contact information

Part VIII lists additional resources of interest to applicants and other information

I. Funding Opportunity Description

The ETA announces the availability of $34 million for grants to serve high schools that are not currently receiving a DOL grant for these purposes and that have been designated as persistently dangerous by State Educational Agencies for the 2008-2009 school year under section 9532 of the Elementary and Secondary Education Act. The goal of these grants is to reduce violence within these schools through a combination of mentoring, education, employment, case management, and violence prevention strategies.

The high schools that have identified this year as persistently dangerous have the following characteristics:

■ These high schools are quite large—many of them have enrollments of over 1,500.

■ In particular, these high schools tend to have disproportionate numbers of 9th graders. Many of these persistently dangerous schools have close to half of their students in the ninth grade. In contrast, high schools across the country typically have a much more equal number of students in the 9th, 10th, 11th, and 12th grade classes.

■ The high schools lose great numbers of students between the 9th and 12th grades. Almost all of the schools lose over half of their 9th graders before they reach the 12th grade, and many lose over 60 percent of their 9th graders before they reach the 12th grade.

■ The high schools tend to have significant numbers of students with severe truancy problems, typically with slightly over 20 percent of students missing 50 or more days of school each year.

■ These schools serve a predominantly poor population, with many of the schools having 70 percent or more of their students eligible for a free or reduced lunch.

■ Several of the schools are located in census tracts with a poverty rate of 20 percent or more.

■ The persistently dangerous special education schools that are ungraded but that serve primarily students ages 14 and above also have between 52 percent and 68 percent of their students eligible for a free lunch.

These statistics suggest that the problems of violence, crime, low educational achievement, poverty, and joblessness that characterize persistently dangerous schools and the neighborhoods they serve are all interrelated. These various problems can be overwhelming to both individual students and schools, making it very difficult to create a school climate that is safe and in which academic success is the norm. Research by the Center for Social Organization of Schools at Johns Hopkins University suggests that a fundamental problem of troubled high schools is that they have large numbers of incoming ninth graders not prepared academically for high school.¹ A study by the Consortium on Chicago School Research indicates that ninth graders who fail courses are a diverse group, with some who fail almost all of their courses and need sustained interventions, while others fail only one or two courses and could be helped by the school moving towards Ninth Grade Academies.² Finally, the Turnaround Challenge report by Mass Insight notes that schools in poor communities need to “proactively address the challenges accompanying their students as they walk in the school house door: from something as basic as finding an impoverished child socks or a coat, to assisting where possible with transportation or health services, and attacking the significant cognitive, social, cultural, and psychological barriers to learning that many children of poverty tend to experience.” ³

¹ Robert Balfanz and Nettie Legters, “The Graduation Rate Crisis We Know and What Can Be Done About It”, Education Week, July 12, 2006, available at http://web.jhu.edu/CSOS/graduation-gap/edweek/Crisis_Commentary.pdf.

² Melissa Roderick, Closing the Aspirations-Attainment Gap: Implications for High School Reform, MDRC, April 2006, available at http://www.mdrc.org/publications/427/full.pdf.

³ The Turnaround Challenge, Mass Insight Educational Research Institute, 2007, available at http://www.massinsight.org/resourcefiles/TheTurnaroundChallenge_2007.pdf.

The Department's intent is to provide sufficient funding through these grants to allow schools to reconfigure in ways that both significantly expand the level of services provided to students and enhance coordination of these services within the school and with the community. Consistent with the research described above, the Department expects that each grant will include three levels of interventions: (1) Reforms that affect the whole school; (2) interventions aimed at particular target groups of at-risk youth, such as entering ninth graders and repeating ninth graders; and (3) intensive interventions for individual youth who present the greatest challenges relating to misconduct, truancy, and poor school performance. All three levels of interventions should be aimed at improving student attendance, behavior, effort, and course performance. Because persistently dangerous schools tend to have so many ninth graders, the Department sees that an emphasis of these grants will be improving services to entering and repeating ninth graders.

The required components for each grant are listed below. In discussing the components we provide various examples of program models, but applicants are free to include in their proposed design program models other than those provided here. The Department expects that in designing these components, grantees will select program models that have evidence of demonstrated effectiveness and that the selected program elements are consistent with the school's overall improvement plan.

To design and carry out these components, each grant must be led by a Turnaround Team that includes the school principal, the principal's immediate supervisor in the school district, and the CBO sub-grantees. The Turnaround Team can also include outside educational and youth development experts and representatives of other partners such as the juvenile justice system, police and school security, foundations, parents, the private sector, and the local Workforce Investment Board. The Turnaround Team is responsible for guiding both the planning and the implementation of the initiative and is to continue this role throughout the term of the grant.

The Department also expects that in carrying out the various components listed below, grantees will foster connections with neighborhood leaders and institutions which serve youth as part of their missions, such as churches with youth programs, Settlement Houses, Boys and Girls Clubs, Girls Inc, YMCAs, and YWCAs. Representatives from such institutions serving the same neighborhood as the school should be included in the Turnaround Team. Ideally, churches and social service organizations in the neighborhoods served by the school could join together to form a community-wide net to serve at-risk youth and to prevent youth violence, as was done in Boston's 10 Point Coalition. See the description of this effort at http://www.jsonline.com/story/index.aspx?id=212652).

1. Mentoring. Each grant must include an adult volunteer mentoring component that integrates the other violence prevention, education, employment, and case management components provided through the grant. The Department requires that a CBO experienced in providing social services in schools with large numbers of high-risk students or in operating mentoring programs will have the lead in this component of the program. This does not need to be the same CBO that is operating the case management component described below. Mentoring can be provided through volunteers recruited in a variety of ways, and may include one-on-one mentoring, group mentoring, and service-based mentoring. The Department does not expect that every student in the school will have a volunteer mentor, but that a sufficient proportion of students have a mentor to make a difference in the school environment. Points to consider in designing this portion of the project include:

■ Proposed mentoring projects should seek to address each of three types of mentoring strategies: personal development mentoring educates and supports youth during times of personal or social stress and provides guidance for decision making; educational or academic mentoring helps a student improve their overall academic achievement; and career mentoring helps the youth develop the necessary skills to enter or continue on a career path.

■ The proposed mentoring strategies should include a period of mentoring and follow-up that is no less than 18 months in duration.

■ While starting a volunteer mentoring component may sound easy, it is actually quite difficult to implement. Volunteers need to be recruited, screened, cleared through background checks, trained, correctly matched with youth, and provided ongoing guidance.

■ Conducting thorough background checks will be necessary before assigning a mentor to a youth. Established mentoring organizations such as the Big Brothers/Big Sisters Program and the National Mentoring Partnership may be helpful in sharing the procedures and data sets that are currently available for conducting background checks. Contact information for local Big Brother/Big Sister Programs can be obtained at http://www.bbbs.org.

■ Information on starting mentorship programs is available at the MENTOR/National Mentoring Partnership Web site at http://www.mentoring.org/, including their guide Elements of Effective Practice at http://www.mentoring.org/downloads/mentoring_411.pdf and their tool kit How to Build a Successful Mentoring Program Using the Elements of Effective Practice at http://www.mentoring.org/downloads/mentoring_413.pdf.

■ Characteristics of effective mentoring programs identified by experts in this field include taking the time to correctly match adults and youth based on common interests; training mentors about what to expect in the mentoring relationship; involving parents in the mentoring program; and providing ongoing technical support to mentors.

■ Faith and community-based organizations may be a good source for recruiting volunteer mentors for youth. For example, the Safer Foundation in Chicago has developed over the years partnerships with faith-based organizations to provide mentors for returning prisoners. See their Web site at http://www.saferfoundation.org/viewpage.asp?id=349.

■ Service-centered mentoring allows adults and youth to get to know each other while working together on community service projects. These can be both small individual projects and large group projects. For larger service-centered mentoring projects, local AmeriCorps and City Year programs may be able to set up such projects with AmeriCorps and City Year volunteers serving as mentors for students.

■ Local corporations may also be a source for recruiting mentors for students. Programs can be set up in which corporation employees spend part of their work day at the school.

■ Information on mentoring youth with disabilities can be found at the Partners for Youth with Disabilities Web site at http://www.pyd.org/national-center/council-goals.htm.

■ Applicants may also be able to learn lessons from the Amachi mentoring program, which has been developed by Public/Private Ventures to provide mentors for the children of prisoners. The program's infrastructure and expertise are provided by Big Brothers/Big Sisters of America, which oversees the screening, matching, and training of mentors, and provides mechanisms for monitoring and supporting the mentors. For more information on this program, see http://www.ppv.org/ppv/publications/assets/167_publication.pdf.

2. Education Strategies. This component can include school restructuring efforts and alternative learning strategies aimed at getting at the underlying causes of violence, high dropout rates, and low student achievement in the schools. School districts can choose from the options below or propose other strategies that are well thought-out and for which reasonable evidence exists to support their inclusion. There will be sufficient funds in each grant to allow implementing several educational strategies similar to those presented here:

■ Breaking large schools into houses or career academies. Especially if used for upper level grades in conjunction with the Ninth Grade Academy and Twilight School options discussed below, breaking a large school into career academies can greatly decrease the chances that a student gets lost in the crowd. Given the positive research results for career academies, the Department strongly recommends this as one of the strategies to be implemented.

■ Ninth Grade Academies. Such an academy separates ninth graders into a section of their own in the school building, with their own assistant principal, teachers, and counselors.

■ Twilight Schools. Twilight Schools operate as a school-within-a-school in the building with a schedule that runs from early afternoon to early evening. The different hours better fit the needs of some youth and allow the schools to have an identity of their own somewhat separate from the larger high school. Students feel part of both the Twilight School and the larger school. The Department sees Twilight Schools started under these grants as being targeted during the first year on repeating ninth graders who earned few if any credits the previous year. Research indicates that failing the ninth grade strongly predicts dropping out of school and that repeating ninth graders need intensive interventions or they will simply fail the ninth grade again.⁴ Twilight Schools started under these grants could then be expanded in subsequent years to include both a new set of repeating ninth graders and students who choose to stay in the Twilight School rather than moving back to the regular school. Like Ninth Grade Academies, Twilight Schools started under this grant would have their own section of the building, and their own assistant principal, teachers, and counselors.

⁴ See Melissa Roderick, Closing the Aspirations-Attainment Gap: Implications for High School Reform, MDRC, April 2006, available at http://www.mdrc.org/publications/427/full.pdf, and Ruth Curran Neild and Robert Balfanz, Unfulfilled Promise: The Dimensions and Characteristics of Philadelphia's Dropout Crisis, 2000-2005, available at http://www.projectuturn.net/reports.html.

■ Credit Retrieval. A reason that many youth drop out of school is that they become hopelessly behind in credits. Credit retrieval or recovery classes allow students to make up courses that they failed using educational software and other means under the direction of a teacher instead of repeating entire semesters of work. Credit retrieval can be useful to a range of students—helping older youth who are far behind in credits, keeping younger youth from falling too far behind their age cohort in credits, and helping older students who need only a few more credits to graduate.

■ Block Scheduling. Block scheduling allows students to take four courses for 75 minutes a day each semester instead of seven courses for 50 minutes each. This allows students to focus more on a smaller set of courses, and for teachers to work with a much smaller set of students each semester. Block scheduling gives teachers a chance to work collaboratively in serving each student, and provides additional time for joint planning by teachers.

■ Double and Triple Doses of Reading and Math. Key predictors of a student dropping out of school are failing ninth grade English or Algebra and having high truancy in the ninth grade. Providing entering and repeating ninth graders with double or triple doses of reading and math during the day can address these causes of youth eventually dropping out of school.

■ Reduced Class Sizes in Algebra and Selected Other Courses. Reducing class sizes across the high school from say 27 to 22 may have a minimal impact on student performance, but strategically reducing class sizes in difficult subjects such as Algebra from 27 students to 10 could result in a significant increase in performance.

■ Summer Transition Programs for Entering Ninth Graders. These programs would include identifying and contacting in the spring the eighth graders who will be attending the high school in the fall, and then providing them with a summer transition program or summer camp to prepare them for high school. These summer programs could focus on anti-violent behavior, peer mediation, study skills, and reading and math remediation.

■ Outreach and Remediation for Eighth-Graders in Feeder Middle Schools. Outreach and remediation efforts may be conducted during the spring term for eighth-graders planning to attend the high school in the fall. Up to $300,000 of the grants to larger schools with 1,000 or more students and up to $200,000 of the grants to smaller schools can be used for such programs in feeder middle schools. The hope is that such outreach efforts can lead to a higher percentage of entering ninth graders attending the Summer Transition Program.

■ Vouchers for outside tutoring and supportive services. Such vouchers would allow parents and students to choose among various local organizations to receive tutoring and supportive services aimed at helping the student succeed in school. Grantees will need to demonstrate that any supportive services provided under these grants are coordinated with the supplemental educational services the district and school must offer to students as part of the No Child Left Behind requirements.

The Department expects that these various educational interventions will be accompanied by extensive staff development efforts, which will include professional development time devoted to the teacher's academic content area, training on instructional methods, training for teachers collaborating across subject areas, and having teams of expert teachers work on an ongoing basis observing newer teachers and providing them guidance for improvement.

Many of the educational interventions described here combined make up the Talent Development High School Model designed by the Center for Social Organization of Schools at Johns Hopkins University, and applicants may select to replicate this entire model. It is described in more detail at the Center's Web site at http://web.jhu.edu/CSOS/tdhs/index.html. The educational interventions described here are also consistent with the principles developed by Theodore Sizer in the Coalition for Essential Schools model, and applicants may select replicating that model. It is described in more detail at the Coalition for Essential School Web site at http://www.essentialschools.org/. The educational interventions described here are also consistent with the middle school reforms recommended by the Carnegie Corporation in their Turning Points report, http://www.carnegie.org/sub/research/index.html#adol. Applicants may also wish to consider in designing their projects the work of the Consortium on Chicago Public School Research and the Turnaround Challenge report by Mass Insight referenced earlier in this grant announcement.

3. Employment Strategies. The employment component should emphasize internships for juniors and seniors in high-growth occupations and industries. These internships can occur during afternoons on school days or during the summer. Points to consider in designing this component include:

■ To the extent that the school is broken down into career-focused academies, this employment component should be tied to the themes of these academies. See MDRC's research on Career Academies at http://www.mdrc.org/project_29_1.html.

■ These internships should be carefully designed so that students are doing useful work to earn their wages as opposed to job shadowing or sitting idly at their desks.

■ Developing these internships will require linkages to major corporations in the city, including possibly corporations willing to adopt the school both to provide internships to the students and to have their employees serve as mentors to the students.

■ Implementing this component will require developing a partnership with the local workforce system to provide access both to the corporations represented on the Workforce Investment Board (WIB) and the service providers funded by the local workforce system.

■ The employment component can include efforts to expose students to careers and to coordinate with industry-based youth organizations. See the Web sites of Skills USA (http://www.skillsusa.org/) and Health Occupations Students of America (http://www.hosa.org/natorg.html).

■ The employment component should include efforts to expand the career awareness of students and to make them aware of the educational requirements of various careers.

■ Some grant funds may be used for wages for these after-school and summer internships. Summer internship efforts should be coordinated where appropriate with summer jobs programs operated by the local WIB.

■ In designing the employment component, grantees will need to do a scan of existing DOL-funded initiatives in the community, including the Workforce Investment Act (WIA) formula youth program, community-based job training projects, youth offender projects, and high-growth job training grants, to determine potential linkages.

4. Efforts to Improve the School Environment and Student Behavior. This component can include conflict resolution classes, anti-bullying efforts, student courts, peer mediation, anger management classes, crisis intervention strategies, increased involvement of parents, and training teachers in effective classroom management. This component should include both school-wide activities and efforts targeted towards the students who are causing the most discipline problems at the school. Resources for developing this component of the program include:

■ Safeguarding Our Children: An Action Guide was produced by the Center for Effective Collaboration and Practice of the American Institutes for Research and the National Association of School Psychologists under a cooperative agreement with the U.S. Department of Education. This guide presents a comprehensive plan for preventing school violence. It is available at http://cecp.air.org/guide/aifr5_01.pdf.

■ The Resolving Conflict Creatively Program is a nationally recognized violence prevention program developed by Educators for Social Responsibility (ESR), a non-profit organization that offers comprehensive programming, staff development, and consultation to schools. ESR has also developed a Partners in Learning Program specifically for high schools that covers failing students, classroom discipline, school-wide discipline, positive peer culture, peer mediation, and countering bullying. More information is available at http://www.esrnational.org/index.php?location=high_school&l=hs.

5. Case Management. This component will provide a team of full-time advocates for youth stationed at the school serving as case managers. The Department sees these case managers or advocates as assisting school counselors in addressing the behavioral, truancy, and academic problems of youth, and in linking students to available social services. The Department also sees these case managers or advocates getting to know the parents of youth and making home visits to the youth. The Department expects that a CBO experienced in providing social services in schools with large numbers of at-risk youth will have the lead in operating this component of the program. This can be the same CBO that will be operating the mentoring component or it can be a different CBO. Consistent with the mentoring component, the Department does not expect that every student in the school will be assigned to a case manager or advocate, but that a sufficient proportion of students will be served through this component to make a difference in the school climate.

There are many models of in-school case management programs, which grantees can use or build upon in developing their own program. Such models include:

■ The Communities in Schools model emphasizes bringing to schools the social service and health resources available from the community. Site coordinators within schools identify the social service needs of individual students and find the appropriate community resources to address those needs, whether it be eyeglasses, tutoring, food, or a safe place to be. See http://www.cisnet.org/.

■ The Quantum Opportunity Program (QOP), developed by OIC of America, focuses on advocates staying with the same small group of entering ninth graders throughout the students' four or sometimes five years of high school. Each QOP advocate is assigned to roughly 20 entering ninth graders. QOP also includes academic remediation, life skills, and community service components. The QOP model has been evaluated through a random assignment study. The program did not produce impacts overall across the seven sites studied, but did have positive impacts in selected sites and with youth who were under age 14 at enrollment. See http://www.mathematica-mpr.com/publications/pdfs/QOPfinalimpacts.pdf.

■ The Jobs for America's Graduates' Multi-Year Dropout Prevention Program has career specialists within schools working with groups of 35 to 45 students to keep the youth on track to graduation. The program starts working with youth in the ninth grade and continues through graduation and one-year of follow-up after graduation. See http://www.jag.org/model.htm.

■ The Violence-Free Zone model developed by the Center for Neighborhood Enterprise uses mature young adults who are from the same neighborhoods as the students in the schools that they serve. The Youth Advisors serve as hall monitors, mentors, counselors, and role models for youth. See http://www.cneonline.org/pages/Violence-Free_Zone.

■ The Futures Program in Baltimore operated by the Mayor's Office of Employment Development provides advocates in schools to offer tutoring, incentives, cultural enrichment, and work experience to youth. See http://www.oedworks.com/youthserv/index.htm.

■ The Partnership for Results program in the Auburn, New York school district uses counselors to conduct home visits and provide links to various social services to families of students with severe behavioral and truancy problems. See http://www.partnershipforresults.org/.

■ The College Bound Foundation model emphasizes assisting students to go on to college. The Foundation places College Access Program Specialists in Baltimore City's public high schools to help students and their parents learn about opportunities to attend college, and to make sure students take academic courses to prepare for college, take the PSAT and SAT tests on time, apply for college admission on time, and apply for available student aid. See http://www.collegeboundfoundation.org/.

II. Award Information

A. Award Amount

Grants to serve high schools with enrollments of 1,000 students or more will amount to $6.8 million. Grants to serve high schools with enrollments of less than 1,000 students, including ungraded special education schools that primarily serve students ages 14 and above, will amount to $3.4 million. Applicants should request in their proposals the entire $6.8 million for the larger high schools and the entire $3.4 million for the smaller schools so as to take full advantage of the resources available for turning around each school. Each grant may receive additional years of funding depending on the availability of such funds and satisfactory performance.

B. Period of Performance

Grants will be awarded for a 36-month period of performance, which may be extended with grant officer approval. This period of performance includes a planning period of up to 12 months leading up to the start of the school year in September 2010, and an operations period of two calendar years. Applicants should budget for two full school years of direct service delivery for each major component. All program components need to be started by the beginning of the 2010 school year. Grantees must provide separate budgets for planning and operations. Grantees should be judicious in their use of planning funds and careful to use them specifically for planning components associated with this grant.

III. Eligibility Information and Other Grant Specifications

A. Eligible Applicants

Either school districts or CBOs can apply for these grants. Schools that are currently receiving DOL funds for this project are not eligible to receive additional funds under this solicitation. Applications can only be submitted for projects to serve high schools that have been identified by the State Department of Education for the 2008-2009 school year as persistently dangerous under section 9532 of the Elementary and Secondary Education Act. This includes ungraded special education schools that primarily serve students ages 14 and above. High schools that have been identified as persistently dangerous this year and that are not currently receiving grants from the Department of Labor under this initiative are located in the school districts of Baltimore City, Plainfield (New Jersey), New York City, Schenectady (New York), Salem-Keiser (Oregon), Philadelphia, and Puerto Rico. These high schools and their most recently available enrollment level are listed in Section VIIIA below. Schools that are currently receiving funds from DOL through a grant awarded under this persistently dangerous schools initiative in June of 2008 are not eligible to apply under this new competition. Schools that had been identified as persistently dangerous this school year, but that have had this designation removed because of successful appeals are not eligible for award. School districts may apply for persistently dangerous schools that are the subject of ongoing appeals regarding their persistently dangerous status, but the application should note that such an appeal is in process and the appeal process will need to be resolved prior to award.

School districts applying will need to have one or more CBOs as sub-grantees/contractors to operate at a minimum the mentoring component. These proposed CBO sub-grantees/contractors do not need to be listed in the application, as the Department strongly encourages the use of competition in selecting sub-grantees and contractors either before or after grant award. CBOs applying will need to have the school district as a partner, with an MOU signed by the school district included in the application. To be eligible to apply for these grants as a CBO, organizations must be not-for-profit entities and can operate either nationally or locally. Separate applications must be submitted for each high school to be served, but school districts and CBOs may submit as many applications as they have eligible schools.

Since the Department intends that activities started with these grants will be sustained over time, school districts and CBOs must include in each application a statement by the school district that there are no plans currently in place to close the school that is the focus of the proposal.

B. Cost Sharing or Matching

There are no cost-sharing or matching requirements for these grants.

C. Other Grant Specifications

1. All students enrolled in the target high school are eligible for services under this grant, including youth who are no longer attending but still listed as enrolled.

2. Veterans Priority. The Jobs for Veterans Act (Pub. L. 107-288) which provides priority of service to veterans and spouses of certain veterans for the receipt of employment, training, and placement services in any job training program directly funded, in whole or in part, by the Department of Labor. In circumstances where a grant recipient must choose between two equally qualified candidates for training, one of whom is a veteran, the Jobs for Veterans Act requires that grant recipients give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at “Jobs for Veterans Priority of Services” Web site: http://www.doleta.gov/programs/vets.

IV. Application and Submission Information

A. Address To Request Application Package

This SGA contains all of the information and links to forms needed to apply for grant funding.

B. Content and Form of Application Submission

The proposal will consist of two separate and distinct parts—a cost proposal and a technical proposal. Applications that fail to adhere to the instructions in this section will be considered non-responsive and will not be considered.

Part I. Cost Proposal. The Cost Proposal must include the following three items:

(a) The Standard Form (SF) 424, “Application for Federal Assistance” (available at http://www07.grants.gov/agencies/forms_repository_information.jsp and http://www.doleta.gov/sga/forms.cfm). The SF 424 must clearly identify the applicant and be signed by an individual with authority to enter into a grant agreement. Upon confirmation of an award, the individual signing the SF 424 on behalf of the applicant shall be considered the representative of the applicant.

(b) All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

(c) The SF 424A Budget Information Form (available at http://www07.grants.gov/agencies/forms_repository_information.jsp and http://www.doleta.gov/sga/forms.cfm). In preparing the Budget Information Form, the applicant must provide a detailed backup budget for both the planning and operations aspects of the project, with a narrative explanation in support of the request. The budget narrative should break down the budget and leveraged resources by project activity, should discuss cost-per-participant, and should discuss precisely how the administrative costs support the project goals. Administrative costs do not need to be identified separately from program costs on the SF 424A Budget Information Form.

Please note that applicants who fail to provide a SF 424, SF 424A, and/or a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance should be shown on the SF 424 and SF 424A Budget Information Form. Applicants are also encouraged, but not required, to submit OMB Survey N. 1890-0014: Survey on Ensuring Equal Opportunity for Applicants, which can be found at http://www.doleta.gov/sga/forms.cfm.

Part II. Technical Proposal. The Technical Proposal will demonstrate the applicant's capability to plan and implement a project in accordance with the provisions of this solicitation. The guidelines for the content of the Technical Proposal are provided in Part V Section A of this SGA. The Technical Proposal is limited to twenty (20) double-spaced single-sided pages with 12 point text font and one-inch margins. Any pages submitted in excess of this 20 page limit will not be reviewed. In addition, the applicant must provide a letter from the school superintendent committing to not displace State and local funds going to the high school with these grant funds and stating that there are no plans currently in place to close the high school. Also, CBOs applying for these grants must include evidence of not-for-profit status. These additional materials do not count against the 20-page limit for the Technical Proposal.

Applicants submitting proposals in hard-copy must submit an original signed application (including the SF-424) and one (1) “copy-ready” version free of bindings, staples or protruding tabs to ease in the reproduction of the proposal by DOL. Applicants submitting proposals in hard-copy are also requested, though not required, to provide an electronic copy of the proposal on CD-ROM.

C. Submission Date, Time, and Address

The closing date for receipt of applications under this announcement is September 22, 2009. Applications must be received at the address below, or electronically received at the Web site below, no later than 5 p.m. (Eastern Daylight Saving Time). Applications sent by e-mail, telegram, or facsimile (fax) will not be accepted.

Applications that do not meet the conditions set forth in this notice will not be honored. No exceptions to the mailing and delivery requirements set forth in this notice will be granted.

Mailed applications must be addressed to the U.S. Department of Labor, Employment and Training Administration, Division of Federal Assistance, Attention: B. Jai Johnson, Reference SGA/DFA PY 08-14, 200 Constitution Avenue, NW., Room N-4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov). Any application received after the deadline will not be accepted. It is strongly recommended that applicants applying online for the first time via Grants.gov immediately initiate and complete the “Get Registered” registration steps at http://www.grants.gov/applicants/get_registered.jsp. These steps may take multiple days or weeks to complete, and this time should be factored into plans for electronic application submission in order to avoid unexpected delays that could result in rejection of an application. If submitted electronically through Grants.gov, the application must be submitted as a .doc, .xls, or .pdf file.

Late Applications: Any application received after the exact date and time specified for receipt at the office designated in this notice will not be considered, unless it is received before awards are made, was properly addressed, and: (a) Was sent by U.S. Postal Service mail, postmarked not later than the fifth calendar day before the date specified for receipt of applications (e.g., an application required to be received by the 20th of the month must be postmarked by the 15th of that month) or (b) was sent by professional overnight delivery service or submitted on Grants.gov to the addressee not later than one working day prior to the date specified for receipt of applications. An application submitted through Grants.gov will not be considered “received” by the Department of Labor unless it was: Electronically submitted on Grants.gov prior to the deadline;” validated by Grants.gov; and forwarded by Grants.gov to the Department of Labor. It is highly recommended that online submissions be completed one working day prior to the date specified for receipt of applications to ensure that the applicant still has the option to submit by overnight delivery service in the event of any electronic submission problems. Applicants take a significant risk by waiting to the last day to submit by Grants.gov. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

ETA will host a Virtual Prospective Applicant Conference for this grant competition. Registration information for the Prospective Applicant Conference will be posted on ETA's Web site at http://www.doleta.gov and http://www.workforce3one.org. Please check these pages for updates periodically during the Solicitation.

D. Intergovernmental Review

This funding opportunity is not subject to Executive Order (EO) 12372, “Intergovernmental Review of Federal Programs.”

E. Funding Restrictions

All proposal costs must be necessary and reasonable in accordance with Federal guidelines. Determinations of allowable costs will be made in accordance with the applicable Federal cost principles. Disallowed costs are those charges to a grant that the grantor agency or its representative determines not to be allowed in accordance with the applicable Federal Cost Principles or other conditions contained in the grant. Applicants will not be entitled to reimbursement of pre-award costs. Funds provided under these grants shall only be used for activities that are in addition to those that would otherwise be available in the local area in the absence of such funds. In accepting funds under this grant as either the grant recipient or sub-recipient, the school district agrees not to divert funds received through this grant to other purposes by reducing the annual budget the school would have received in the absence of the grant. The Department prohibits paying for security officers, police officers, and clinical psychologists with funds provided under this grant. Paying for food is only allowable in circumstances in which it is integral to a training activity. Grant funds may be used to pay wages to students for after-school and summer internships as long as students are assigned real work at these internships, but grant funds cannot be used for paying stipends to youth. Grantees must submit an implementation plan and detailed budget for Federal Project Officer review and approval prior to starting operations. If grantees are starting some components sooner than others, they can submit separate plans for the components as they are ready to start them.

Indirect Costs. As specified in OMB Circulars on Cost Principles, indirect costs are those that have been incurred for common or joint objectives and cannot be readily identified with a particular cost objective. In order to utilize grant funds for indirect costs incurred, the applicant must obtain an Indirect Cost Rate Agreement with its Federal Cognizant Agency either before or shortly after the grant award. The Federal Cognizant Agency is generally determined based on the preponderance of Federal dollars received by the recipient.

Administrative Costs. An entity that receives a grant to carry out a project or program may not use more than 10 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal Cognizant Agency as specified above.

F. Salary and Bonus Limitations

In compliance with Public Law 109-234 and Public Law 110-5, none of the funds appropriated in Public Law 109-149, Public Law 110-5,or prior Acts under the heading “Employment and Training” that are available for expenditure on or after June 15,2006, shall be used by a recipient or sub-recipient of such funds to pay the salary and bonuses of an individual, either as direct costs or indirect costs, at a rate in excess of Executive Level II, excepts as Law 109-149. This limitation shall not apply to vendors providing goods and services as defined in OMB Circular A-133. See Training and Employment Guidance Letter Number 5-06 for further clarification: http://wdr.doleta.gov/directives/corr_doc.cfm?DOCN=2262.

G. Legal Rules Pertaining to Inherently Religious Activities by Organizations That Receive Federal Financial Assistance

Direct Federal grants, sub-award funds, or contracts under this program shall not be used to support inherently religious activities such as religious instruction, worship, or proselytization. Therefore, organizations must take steps to separate, in time or location, their inherently religious activities from the services funded under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.” Regulations pertaining to the Equal Treatment for Faith-Based Organizations, which includes the prohibition against Federal funding of inherently religious activities, can be found at See 29 CFR Part 2, Subpart D. Provisions relating to the use of indirect support (such as vouchers) are at 29 CFR 2.33(c) and 20 CFR 667.266.

A faith-based organization receiving Federal funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of DOL funded activities.

Faith and community-based organizations may also reference ETA Training and Employment Guidance Letter (TEGL) No. 01-05 (July 6, 2005), available at http://wdr.doleta.gov/directives/corr_doc.cfm?DOCN=2088. Faith-based and community organizations may learn about equal treatment and religion-related regulations through the DOL's new online training course at Workforce3one (http://www.workforce3one.org). The course can be found by typing the key works—equal treatment—in the search box on the upper right hand corner of the page. If you are previously registered on this site, you can find the course directly at http://www.workforce3one.org/public/shared/detail.cfm?id=5566&simple=false.

ETA Intellectual Property Rights. The Federal Government reserves a paid-up, non exclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, theses revenues are program income. Program income is added to the grant and must be expended for allowable grant activities.

Additional Requirements. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

H. Withdrawal of Application

Applications may be withdrawn by written notice or telegram (including mailgram) received at any time before an award is made. Applications may be withdrawn in person by the applicant or by an authorized representative thereof, if the representative's identity is made known and the representative signs a receipt for the proposal.

V. Application Review Information

A. Evaluation Criteria

This section identifies and describes the criteria that will be used to evaluate proposals submitted. These criteria and point values are:

Criterion | Points
1. Statement of Need | 15
2. Analysis of the problems faced by the school and its students | 20
3. Project design | 45
4. The commitment of the applicant and the community to the project and the quality of proposed staff | 20
Total Possible Points | 100

The rated components listed above make up the Technical Proposal (along with the additional requirements listed in section IV. B).

1. Statement of Need (15 Points)

• Provide the number of students in the school's ninth grade class (both entering ninth graders and repeating ninth graders) in the fall of 2004 and the number of students who graduated from the school in the spring of 2008. If the school includes only grades 10 through 12, provide the number of 10th graders in the fall of 2005 and the number of students who graduated from the school in the spring of 2008.

• Discuss the number and severity of behavioral incidents in the school during the past two school years.

• Discuss the extent of juvenile crime and youth gangs in the community served by the school. If the school draws students from the entire city, describe the extent of juvenile crime and youth gangs in the communities from which most students are drawn. Where possible, provide data on the level of juvenile crime and youth gang involvement in the community or communities served.

• Ungraded schools serving students with special needs should discuss the behavioral issues and academic challenges faced by their students instead of the three discussion points above.

Proposals will be evaluated under this criterion based on:

• The percentage of students lost between the ninth grade class in the fall of 2004 and the graduating class in the spring of 2008, or for schools that include only grades 10 through 12, the percentage of students lost between the tenth grade class in the fall 2005 and the graduating class in the spring of 2008 (5 points).

• The number and severity of behavioral incidents per student in the school during the past two school years (5 points).

• The extent of the juvenile crime and youth gang problem in the community served by the school (5 points).

• Ungraded schools serving students with special needs will be evaluated based on the severity of the behavioral problems and academic challenges of the students that they serve, with a maximum total of 15 points for their answer.

2. Analysis of the Problems Faced by the School and Its Students (20 Points)

If a school district is applying, this section should be prepared jointly by the school district and the principal and staff of the high school. If a CBO is applying, it should be prepared jointly by the school district, principal and staff of the high school, and the CBO. The section should present a discussion of the problems and challenges faced by the school and its students, and a discussion of why students drop out without graduating and why students become involved in behavioral incidents at the school or in juvenile crime or youth gangs outside the school. This section should also provide evidence that the principal and staff of the school were involved in these discussions.

Proposals will be evaluated under this criterion based on:

• The clarity of the discussion of the problems and challenges faced by the school and its students (10 points).

• Evidence that the school principal and staff were active participants in these discussions. Such evidence could include, for example, dates of meetings held (10 points).

3. Project Design (45 Points)

We are asking you to describe your project design in two ways in this section: (1) In a summary form in the matrix below, and (2) in a more detailed way in a narrative. Begin this section by filling out the matrix below by inserting the new activities to be funded under this grant that will be directed towards: (1) The whole school; (2) particular target groups of at-risk youth, such as entering ninth graders and repeating ninth graders; and (3) individual youth who present the greatest challenges relating to misconduct, truancy, and poor school performance. Use the matrix to show how new activities will be introduced at all three of these levels to improve student attendance, behavior, effort, and course performance.

Here are some examples. (1) If mentors will be provided to particular target groups of students and to individual students with the greatest challenges, and if the mentors will attempt to improve student attendance, behavior, motivation, and course performance, then mentoring should be listed in all of the blocks relating to target groups and individual youth. (2) If tutoring and credit retrieval will be made available to all students, then both of these activities should be listed in the block for initiatives affecting the whole school to improve student course performance. (3) If conflict resolution skills will be taught to all students in the school, then it should be listed as an initiative affecting the whole school aimed at improving student behavior. (4) If new counselors are to be hired to conduct home visits to chronically truant students, it should be listed as an initiative aimed at students with greatest challenges to improve attendance. (5) If a Twilight School will be started for repeating ninth graders to improve their attendance, behavior, motivation, and course performance, it should be listed as an activity in all four blocks for targeted at-risk groups. There can be one, two, three, or more activities listed in each block.

| Improving student attendance | Improving student behavior and reducing violence | Improving student effort and motivation | Improving student course performance
Initiatives Affecting Whole School
Initiatives Targeted at Specific At-Risk Groups (for example, all 9th graders, repeating 9th graders, juvenile offenders, and teen parents)
Intensive Interventions for Individual Students with Greatest Challenges

In addition to completing the matrix, provide a narrative that describes your strategies in detail that includes the following:

■ More complete information on each of the strategies identified in the matrix, including roles and responsibilities for identified project partners and how collectively these strategies complement the existing school improvement plan.

■ Implementation plans to meet the required project components in Part I of the grant announcement:

1. Turnaround Team: Discuss who will serve on this team, including community-based and faith-based organizations and groups. Discuss the roles and responsibilities of the Turnaround Team.

2. Mentoring: Describe how the mentoring component will be carried out, including how mentors will be recruited, screened, and trained, the anticipated number of students who will receive mentors, and the number of full-time staff to be hired for this component.

3. Education Strategies: Discuss the educational strategies that you will implement with grant funds. Provide details regarding how you will implement each strategy, including the number of full-time staff positions that will be dedicated to each new strategy and the expected number of students to be served each year by each strategy. Describe the level of staff development that will be provided in implementing these educational strategies. If vouchers for after-school tutoring or supportive services are proposed, describe how the vouchers will be implemented in a way consistent with Federal Equal Treatment rules on indirect support of religious organizations.

4. Employment Strategies: Discuss plans for developing internships for juniors and seniors during the school year or during the summer. Discuss ideas for possible places for these internships, and the number of students expected to be involved in the internships. Describe potential linkages with other DOL-funded formula and discretionary youth employment programs that currently exist in the neighborhood served by the school, and possible links with the local WIB and local One-Stop Centers.

5. Improving the School Environment and Student Behavior: Discuss how you will provide students with conflict resolution and anger management skills, how you will in other ways promote violence reduction in the school, and the anticipated number of students to be served by this component.

6. Case Management: Discuss plans for carrying out this component, including the number of case managers or advocates you expect to hire, how these case managers or advocates will interact with guidance counselors and staff, the expected number of students to be served each year in this component, and the anticipated case load size.

■ Projected outcomes to be achieved. Indicate for each component the expected outcomes to be attained. For example, the expected outcomes of the mentoring component may be reducing truancy by 5 percent, reducing behavioral incidents by 10 percent, and increasing the percentage of ninth graders promoted to the 10th grade by 10 percent.

Proposals will be evaluated under this criterion based on:

■ The design for school-wide activities, including its potential for having a measurable impact on the school, the extent to which the applicant demonstrates that it has thought through how it will implement the various school-wide activities, and the extent to which it has considered possible links with other DOL grants and other neighborhood programs (15 points).

■ The design for initiatives aimed at specific target groups, including its potential for having a measurable impact on the school and the extent to which the applicant demonstrates that it has thought through how it will implement the various target group activities (15 points).

■ The design for initiatives aimed at students with the greatest challenges, including its potential for having a measurable impact on the school and the extent to which the applicant demonstrates that it has thought through how it will implement the various activities aimed at students with the greatest challenges (15 points).

4. The Commitment of the Applicant and the Community to the Project and the Quality of Proposed Staff (20 Points)

If the school district is applying, this section should include:

■ A clear statement indicating the school district's commitment to this project, including a commitment to making a good faith effort to sustain initiatives after Federal funds cease using average daily attendance funds and other resources. This statement should be backed up by a letter of support from the school superintendent. This letter should acknowledge that “in accepting funds under this grant as either the grant recipient or sub-recipient, the school district agrees not to divert funds received through this grant to other purposes by reducing the annual budget the school would have received in the absence of the grant” and that no plans are currently in place to close the school.

■ A description of the experience of key school district staff that will be involved in the project.

■ A description of the requirements that will go into the grant announcement for selecting CBO sub-grantees/contractors. The Department strongly encourages the competitive selection of sub-grantees and contractors either before or after grant award.

■ A discussion of the community's potential commitment to the project, including a description of organizations that serve the same neighborhoods as the school that could be potential partners, including churches with youth programs, Settlement Houses, Boys and Girls Clubs, Girls Inc, YMCAs, and YWCAs, and how these organizations could help serve as a community-wide net for at-risk youth.

■ A discussion of other partners that the school district hopes to develop in implementing this grant, including the juvenile justice system, the local police, the workforce investment system, local foundations, and corporations.

If a CBO is applying, this section should include:

■ A clear statement indicating the school district's commitment to this project, including a commitment to making a good faith effort to sustain initiatives after Federal funds cease using average daily attendance funds and other resources. This statement should be backed up by a letter of support from the school superintendent. This letter should acknowledge that “in accepting funds under this grant as either the grant recipient or sub-recipient, the school district agrees not to divert funds received through this grant to other purposes by reducing the annual budget the school would have received in the absence of the grant” and that no plans are currently in place to close the school.

■ A description of the experience of key CBO and school district staff that will be involved in the project, and of how CBO staff who will serve students will be recruited.

■ A description of the experience of the CBO either in providing social services in schools with large numbers of at-risk students or in operating mentoring or other youth-serving programs.

■ A description of the requirements that will go into the grant announcement for selecting other CBOs as sub-grantees/contractors. The Department strongly encourages the competitive selection of sub-grantees and contractors either before or after grant award.

■ A discussion of the community's potential commitment to the project, including a description of organizations that serve the same neighborhoods as the school that could be potential partners, and how these organizations could help serve as a community-wide net for at-risk youth.

■ A discussion of other partners that the CBO and school district hope to develop in implementing this grant, including the juvenile justice system, the local police, the workforce investment system, local foundations, and corporations.

If a school district is applying, proposals will be evaluated under this criterion based on:

■ The commitment of the school district to the project, as demonstrated in the letter of support from the school superintendent and evidence in the application that staff at the school district level will be involved in designing and overseeing the proposed project (4 points);

■ The experience of school district staff assigned to the project, as demonstrated by their involvement in other efforts to improve and restructure high schools (4 points);

■ The requirements that will be included in the grant announcement for selecting CBO sub-grantees/contractors (4 points);

■ The potential commitment of the community to the project, as demonstrated by the description of organizations that serve the same neighborhoods as the school that could be potential partners and how these organizations could help serve as a community-wide net for at-risk youth (4 points).

■ Plans for developing partnerships with other agencies and organizations, as demonstrated by how specific and practical such plans are (4 points).

If a CBO is applying, proposals will be evaluated under this criterion based on:

■ The commitment of the school district to the project, as demonstrated in the letter of support from the school superintendent and evidence in the application that staff at the school district level will be involved in designing and overseeing the proposed project (4 points);

■ The experience of CBO and school district staff assigned to the project, as demonstrated by their involvement in other efforts to improve and restructure high schools (4 points);

■ The experience of the CBO either in providing social services in schools with large numbers of at-risk students or in operating mentoring or other youth-serving programs (4 points).

■ The potential commitment of the community to the project, as demonstrated by the description of organizations that serve the same neighborhoods as the school that could be potential partners and how these organizations could help serve as a community-wide net for at-risk youth (4 points);

■ Plans for developing partnerships with other agencies and organizations, as demonstrated by how specific and practical such plans are (4 points).

B. Review and Selection Process

Proposals that are timely and responsive to the requirements of this SGA will be rated against the criteria listed above by an independent panel comprised of representatives from DOL and other reviewers. The ranked scores will serve as the primary basis for selection of applications for funding, in conjunction with other factors such as geographic balance, the availability of funds, and which proposals are most advantageous to the Government. Applications that receive a score of 80 and above will be considered for award. The panel results are advisory in nature and not binding on the Grant Officer, and the Grant Officer may consider any information that comes to his/her attention. If no fundable proposals are received for a given category or if fewer fundable proposals are received for a category than we intended to fund, additional awards may be made in the other categories. The Government may elect to award the grant(s) with or without discussions with the applicants. Should a grant be awarded without discussions, the award will be based on the applicant's signature on the SF 424, which constitutes a binding offer by the applicant (including electronic signature via E-Authentication on http://www.grants.gov).

C. Anticipated Announcement and Award Dates

Both school districts and CBOs applying for these grants should include in their technical proposals the name and contact information for persons who will be available for discussions with the Department.

VI. Award Administration Information

A. Award Notices

All award notifications will be posted on the ETA homepage (http://www.doleta.gov). The notice of award signed by the Grants Officer will serve as the authorizing document. Applicants not selected for award will be notified as soon as possible.

B. Administrative and National Policy Requirements

1. Administrative Program Requirements

All grantees, including faith-based organizations, will be subject to all applicable Federal laws (including provisions of appropriation laws), regulations, and the applicable OMB Circulars. The grant(s) awarded under this SGA must comply with all provisions of this solicitation and will be subject to the following statutory and administrative standards and provisions, as applicable to the particular grantee:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR part 2, subpart D—Equal Treatment in Department of Labor Programs for Religious Organizations, Protection of Religious Liberty of Department of Labor Social Service Providers and Beneficiaries;

g. 29 CFR part 31—Nondiscrimination in Federally Assisted Programs of the Department of Labor—Effectuation of Title VI of the Civil Rights Act of 1964;

h. 29 CFR part 32—Nondiscrimination on the Basis of Handicap in Programs and Activities Receiving or Benefiting from Federal Financial Assistance;

i. 29 CFR part 33—Enforcement of Nondiscrimination on the Basis of Handicap in Programs or Activities Conducted by the Department of Labor;

j. 29 CFR part 35—Nondiscrimination on the Basis of Age in Programs or Activities Receiving Federal Financial Assistance from the Department of Labor;

k. 29 CFR part 36—Nondiscrimination on the Basis of Sex in Education Programs or Activities Receiving Federal Financial Assistance;

The following administrative standards and provisions may be applicable:

a. Workforce Investment Act—20 Code of Federal Regulations (CFR) Part 667. (General Fiscal and Administrative Rules).

b. 29 CFR part 30—Equal Employment Opportunity in Apprenticeship and Training;

c. 29 CFR part 37—Implementation of the Nondiscrimination and Equal Opportunity Provisions of the Workforce Investment Act of 1998.

d. 29 CFR part 1926, Safety and Health Regulations for Construction of the Occupational Safety and Health Act (OSHA); and

e. 29 CFR part 570, Child Labor Regulations, Orders and Statements of Interpretation of the Employment Standard Administration's Child Labor Provisions.

In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements

Evaluation. DOL will require that grantees participate in an evaluation of overall performance. To measure the effect of the project, DOL will arrange for or conduct an independent evaluation of the outcomes and benefits of the project. The grantee must agree to make records on participants, employers and funding available, and to provide access to program operating personnel and participants, as specified by the evaluator(s) under the direction of DOL, including after the expiration date of the grant.

C. Reporting and Accountability

These grants will be subject to performance standards measuring their progress in meeting the goals of the grants. The problems of truancy, failing the ninth grade, having low reading and math skills, dropping out of school, creating behavioral problems in school, and participating in violence and gangs are all interrelated, and the performance measures for these grades will reflect each of these. National goals will be set after grant award in the following areas:

■ Decreasing the number and seriousness of behavioral incidents at the school, including the rate of all incidents involving suspension, expulsion, or arrest and the rate of severe incidents that count towards persistently dangerous status. This will require tracking the number and type of behavioral incidents at the school each year. This information is already collected by school districts.

■ Decreasing the number of students who become involved in the juvenile justice system. This will require increased coordination with the city's juvenile justice system. Such increased coordination also will have positive benefits in serving youth involved in delinquency, as research shows that such youth currently have very poor educational outcomes.

■ Improving the high school's daily attendance rate, including increasing the school's overall average daily attendance and decreasing the percentage of students at the school who miss 54 days or more during the year. This will involve tracking the high school's daily attendance. High schools and school districts already collect this information.

■ Decreasing its rate of students failing the ninth grade, including both the rate of first-time 9th graders failing and the rate of repeating 9th graders failing for a subsequent year. This will require tracking the number of entering 9th graders who fail the ninth grade and the number of repeating 9th graders who fail the ninth grade a second time. High schools and school districts already collect this information.

■ Increasing the reading and math scores of its students, including both the percentage of students testing at grade level and the percentage of basic skills deficient students who improve at least two grade levels during the year in reading and or math. This will involve conducting baseline and follow-up reading and math tests of students. DOL will accept the results of reading and math tests already being conducted by high schools that are the focus of these grants. Given that some special groups of youth such as repeating ninth graders or entering ninth graders will likely receive more concentrated reading and math instruction under this grant, it will make sense from both a programmatic and a performance management standpoint to provide additional reading and math testing of these students.

■ Decreasing the school's dropout rate, as measured both by comparing the number of graduates from the school to the entering ninth grade class four years earlier and by looking at the number of entering ninth graders at the school who graduate four years later from any public school in the district. This will require tracking the number of students in the school's ninth grade each year and the subsequent number of students who graduate four years later. High schools and school districts already collect such information.

■ Increasing the proportion of the school's graduating seniors who enroll in post-secondary education. This will involve the school district enrolling in a national data base that identifies students in colleges across the country.

■ Reaching a targeted number of students participating in mentoring programs. This will involve documenting the number of students in the school's mentoring component.

■ The cost-effectiveness of the program. DOL will coordinate with grantees in setting this measure and in identifying the data sources necessary for this element. Quarterly financial reports, quarterly progress reports, and management information system (MIS) data will be submitted by the grantee electronically. Grantees must agree to meet DOL reporting requirements. The grantee is required to provide the reports and documents listed below:

Quarterly Financial Reports. A Quarterly Financial Status Report is required until such time as all funds have been expended or the grant period has expired, whichever is sooner. Quarterly reports are due 45 days after the end of each calendar year quarter. Grantees must use ETA's On-Line Electronic Reporting System; information and instructions will be provided to grantees.

Quarterly Progress Reports. The grantee must submit a quarterly progress report based on a DOL template to its designated Federal Project Officer within 45 days after the end of each quarter. This report should provide a detailed account of activities undertaken during that quarter. The quarterly progress report should be in narrative form and should include:

1. In-depth information on accomplishments, including project success stories, upcoming grant activities, and promising approaches and processes.

2. Progress toward meeting performance outcomes.

3. Challenges being faced by the grantee in implementing the project.

MIS Reports. Organizations will be required to submit updated MIS data within 45 days after the end of each quarter based on a DOL template that reports on enrollment, services provided, placements, outcomes, and follow-up status.

VII. Agency Contacts

For further information regarding this SGA, please contact Serena Boyd, Grants Management Specialist, Division of Federal Assistance, at (202) 693-3338 (please note this is not a toll-free number). Applicants should fax all technical questions to (202) 693-2705 and must specifically address the fax to the attention of Serena Boyd and should include SGA/DFA PY 08-14, a contact name, fax and phone number, and e-mail address. This announcement is being made available on the ETA Web site at http://www.doleta.gov/sga/sga.cfm, at http://www.grants.gov, and in the Federal Register.

VIII. Additional Resources and Other Information

A. High Schools and Ungraded Schools That Serve Primarily Students Ages 14 and Above That Have Been Designated as Persistently Dangerous for the 2008-2009 School Year and That Are Not Currently Receiving a Grant From DOL for These Purposes

Maryland

■ Reginald F. Lewis High School, Baltimore, 788 students.

New Jersey

■ Plainfield High School, Plainfield, 1,803 students.

New York

■ PS 12, Lewis and Clark School, New York City, 246 students ages 14 and above.

■ PS/IS 25 South Richmond High School, New York City, 306 students ages 14 and above.

■ Marta Valle Secondary School, New York City, 409 students.

■ Schenectady High School, Schenectady, 2,902 students.

Oregon

■ McKay High School, Salem, 1,791 students.

Pennsylvania

■ Edison-Fariera High School, Philadelphia, 2,400 students.

■ Frankford High School, Philadelphia, 2,057 students.

■ Martin Luther King High School, Philadelphia, 1,424 students.

■ Olney West High School, Philadelphia, 964 students.

■ Samuel Fels High School, Philadelphia, 1,498 students.

■ South Philadelphia High School, Philadelphia, 1,175 students.

■ Strawberry Mansion High School, Philadelphia, 500 students.

■ William Penn High School, Philadelphia, 689 students.

Puerto Rico

■ Superior Dra. Trina Padilla de Sanz, Arecibo, 432 students.

■ Superior Medardo Carazo, Trujillo Alto, 255 students.

■ Superior Judith Vivas, Utuado, 313 students.

■ Superior Lorenzo Coballes Gandia, Hatillo, 529 students.

B. Resources for the Applicant

DOL maintains a number of Web-based resources that may be of assistance to applicants. Questions and responses submitted to the Grant Officer regarding the SGA will be posted on the ETA Web site at http://www.doleta.gov. Questions will be received for one month after publication.

C. Other Information

OMB Information Collection No.: 1225-0086.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. Please do not return your completed application to the OMB. Send it to the sponsoring agency as specified in this solicitation.

This information is being collected for the purpose of awarding a grant. The information collected through this “Solicitation for Grant Applications” will be used by DOL to ensure that grants are awarded to the applicant best suited to perform the functions of the grant. Submission of this information is required in order for the applicant to be considered for award of this grant. Unless otherwise specifically noted in this announcement, information submitted in the respondent's application is not considered to be confidential.

Signed at Washington, DC, this 20th day of July 2009.
B. Jai Johnson,
Grant Officer, Employment and Training Administration.

[FR Doc. E9-17560 Filed 7-23-09; 8:45 am]

BILLING CODE 4510-FT-P